OVERSEAS PRIVATE INVESTMENT CORPORATION

Sunshine Act Meeting Notice

TIME AND DATE: Thursday, September 17, 2015, 2 p.m. (OPEN Portion).

2:15 p.m. (Closed Portion)

PLACE: Offices of the Corporation, Twelfth Floor Board Room, 1100 New York Avenue NW., Washington, DC.

STATUS: Meeting OPEN to the Public from 2 p.m. to 2:15 p.m.

Closed portion will commence at 2:15 p.m. (approx.)

MATTERS TO BE CONSIDERED:

1. President's Report

2. Minutes of the Open Session of the June 11, 2015 Board of Directors Meeting

FURTHER MATTERS TO BE CONSIDERED (Closed to the Public 2:15 p.m.):

1. Proposed FY 2017 Budget

2. Finance Project—Pakistan

3. Finance Project—India

4. Finance Project—South Africa

5. Finance Project—South Africa

6. Minutes of the Closed Session of the June 11, 2015 Board of Directors Meeting

7. Reports

8. Pending Projects

CONTACT PERSON FOR MORE INFORMATION: Information on the meeting may be obtained from Catherine F. I. Andrade at (202) 336-8768, or via email at Catherine.Andrade@opic.gov.

Dated: August 27, 2015.
Catherine F. I. Andrade,
Corporate Secretary, Overseas Private Investment Corporation.

[FR Doc. 2015-21598 Filed 8-27-15; 4:15 pm]

BILLING CODE 3210-01-P